DEPARTMENT OF THE TREASURY

Customs Service

Revocation of Customs Broker License

AGENCY: Customs Service, Department of the Treasury.

ACTION: Customs broker license revocation.

SUMMARY: Pursuant to section 641 of the Tariff Act of 1930 as amended (19 USC 1641) and the Customs Regulations [19 CFR 111.45(a)], the following Customs broker license is revoked by operation of law.

Name | License | Port
Unimex Brokerage, Inc. | 12585 | El Paso

Dated: December 20, 2001.
Bonni G. Tischler,
Assistant Commissioner, Office of Field Operations.

[FR Doc. 02-1789 Filed 1-23-02; 8:45 am]

BILLING CODE 4820-02-P